FEDERAL COMMUNICATIONS COMMISSION

47 CFR Part 73

[DA 04-3614; MB Docket No. 04-168, RM-10832]

Radio Broadcasting Services; Waitsburg, Washington

AGENCY: Federal Communications Commission.

ACTION: Final rule.

SUMMARY: The Audio Division, at the request of Waitsburg Broadcasting Company, allots Channel 272A to Waitsburg, Washington, as its first local aural transmission service. See 69 FR 29254, May 21, 2004. Channel 272A can be allotted to Waitsburg, consistent with the minimum distance separation requirements of the Commission's Rules with a site restriction 12.3 kilometers (7.6 miles) east of the community at coordinates 46-17-41 NL and 117-59-47 WL. Although concurrence has been requested for Channel 272A at Waitsburg, notification has not been received. If a construction permit is granted prior to the receipt of formal concurrence in the allotment by the Canadian government, the construction permit will include the following condition: “Operation with the facilities specified for Waitsburg herein is subject to modification, suspension or, termination without right to hearing, if found by the Commission to be necessary in order to conform to the U.S.-Canadian FM Broadcast Agreement.” A filing window for Channel 272A at Waitsburg, Washington, will not be opened at this time. Instead, the issue of opening a filing window for this channel will be addressed by the Commission in a subsequent order.

DATES: Effective January 6, 2005.

ADDRESSES: Federal Communications Commission, 445 Twelfth Street, SW., Washington, DC. 20554.

FOR FURTHER INFORMATION CONTACT: Rolanda F. Smith, Media Bureau, (202) 418-2180.

SUPPLEMENTARY INFORMATION: This is a synopsis of the Commission's Report and Order, MB Docket No. 04-168, adopted November 17, 2004, and released November 22, 2004. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the General Accounting Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Texas, is amended by adding Waitsburg, Channel 272A.

Federal Communications Commission.
John A. Karousos,
Assistant Chief, Audio Division, Media Bureau.

[FR Doc. 04-27046 Filed 12-8-04; 8:45 am]

BILLING CODE 6712-01-P